DEPARTMENT OF VETERANS AFFAIRS

[OMB Control No. 2900-0696]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before August 9, 2007.

ADDRESSES: Submit written comments on the collection of information through http://www.Regulations.gov or to VA's OMB Desk Officer, OMB Human Resources and Housing Branch, New Executive Office Building, Room 10235, Washington, DC 20503, (202) 395-7316. Please refer to “OMB Control No. 2900-0696” in any correspondence.

FOR FURTHER INFORMATION CONTACT: Denise McLamb, Records Management Service (005G2), Department of Veterans Affairs, 810 Vermont Avenue, NW., Washington, DC 20420, (202) 565-8374, FAX (202) 565-7870 or e-mail denise.mclamb@mail.va.gov. Please refer to “OMB Control No. 2900-0696.”

SUPPLEMENTARY INFORMATION: Title: Availability of Educational, Licensing, and Certifications Records; 38 CFR 21.4209.

OMB Control Number: 2900-0696.

Type of Review: Extension of a currently approved collection.

Abstract: CFR 21.4209 requires educational institutions and licensing and certification organizations to make their records available to government representatives. VA will use the data collected to ensure that benefits paid under the education programs are correct.

An agency may not conduct or sponsor, and a person is not required to respond to a collection of information unless it displays a currently valid OMB control number. The Federal Register Notice with a 60-day comment period soliciting comments on this collection of information was published on April 18, 2007, at pages 19587-19588.

Affected Public: Not-for-profit institutions.

Estimated Annual Burden: 6,000 hours.

Frequency of Response: On occasion.

Estimated Average Burden per Respondent: 5 hours.

Estimated Annual Responses: 3,000.

Dated: June 26, 2007.
By direction of the Secretary.
Denise McLamb,
Program Analyst, Records Management Service.

[FR Doc. E7-13294 Filed 7-9-07; 8:45 am]

BILLING CODE 8320-01-P